DEPARTMENT OF HOUSING AND URBAN DEVELOPMENT

[Docket No. FR-5121-N-20]

Notice of Proposed Information Collection: Comment Request; Mortgage Record Change

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: August 28, 2007.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8003, Washington, DC 20410 or Lillian_L_Deitzer@hud.gov.

FOR FURTHER INFORMATION CONTACT: Silas C. Vaughn, Jr., Single Family Insurance Operations Division, Department of Housing and Urban Development, 451 7th Street, SW., Washington, DC 20410, telephone (202) 402-3545 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgage Record Change.

OMB Control Number, if applicable: 2502-0422.

Description of the need for the information and proposed use: The Mortgage Record Change information is used by FHA-approved mortgagees to comply with HUD requirements for reporting the sale of a mortgage between investors, the transfer of the mortgage servicing responsibility, and a change in mortgagors, as appropriate. The information required is used to update HUD's Insurance System and other related systems. Current data is necessary to establish mortgage premium liability, forward annual premium mortgage data to the appropriate mortgagee/servicer, and maintain premium receivables and program data regarding investors/servicer activity. Without the required data, the premium collection/monitoring function would be severely impeded and program data would be unreliable. This information is essential because HUD does case level accounting in recording premium payments by mortgagees.

Agency form numbers, if applicable: HUD-92080 is used for multifamily loans only. Information for single family loans is collected 100% electronically.

Estimation of the total numbers of hours needed to prepare the information collection including number of respondents, frequency of response, and hours of response: The public reporting burden for this collection of information is estimated to be 160,025 hours annually. An estimated 2,600 respondents file 1,600,025 responses annually, and the time needed to provide the information is 6 minutes on average.

Status of the proposed information collection: Extension of a currently approved collection.

Authority: The Paperwork Reduction Act of 1995, 44 U.S.C., Chapter 35, as amended.

Dated: June 22, 2007.
Frank L. Davis,
General Deputy Assistant Secretary for Housing—Deputy Federal Housing Commissioner.

[FR Doc. E7-12580 Filed 6-28-07; 8:45 am]

BILLING CODE 4210-67-P